DEPARTMENT OF HEALTH AND HUMAN SERVICES

Centers for Disease Control and Prevention

[Program Announcement 02009]

National Program To Promote Diabetes Education Strategies in Minority Communities: The National Diabetes Education Program; Notice of Availability Funds

A. Purpose

The Centers for Disease Control and Prevention (CDC) announces the availability of fiscal year (FY) 2002 funds for a cooperative agreement program for “National Program to Promote Diabetes Education Strategies in Minority Communities: The National Diabetes Education program.” This program addresses the “Healthy People 2010” focus area of Diabetes.

The purpose of the program is to support National Diabetes Education Program activities that strengthen the capacity of national and regional minority organizations (NMOs/RMOs) to reduce the disproportionate burden of diabetes among high-risk populations (e.g. Black or African-American, Hispanic or Latinos, Asian, Native Hawaiian or Other Pacific Islanders, and American Indian or Alaska Native). These awards will enable NMOs/RMOs to reach their targeted populations with culturally and linguistically appropriate intervention strategies through trusted and valued community-based intervention approaches and delivery channels.

B. Eligible Applicants

Assistance will be provided to national organizations that are private health, education or social service organizations (professional or voluntary); qualify as a non-profit 501(c)3 entity; have affiliate offices or local, state, or regional membership constituencies in five or more geographically distinct communities with a high concentration of the targeted population, and have the capacity and experience to assist their affiliate offices, chapters, and member constituencies. Geographically distinct communities may be located in different states. Affiliate offices and local, state, or regional membership constituencies may NOT apply in lieu of or on behalf of their parent national office. However, this does not exclude affiliates from assisting with the development of the application.

Note: Title 2 of the United States Code, Section 1611 states that an organization described in section 501(c)(4) of the Internal Revenue Code that engages in lobbying activities is not eligible to receive Federal funds constituting an award, grant, or loan.

Tax-Exempt Status

For those applicants applying as a private non-profit organization, proof of tax-exempt status must be provided with the application. Tax-exempt status is determined by the Internal Revenue Service (IRS) Code, Section 501(c)(3). Any of the following is acceptable evidence:

1. A reference to the organization's listing in the Internal Revenue Service's (IRS) most recent list of tax-exempt organizations described in section 501(c)(3) of the IRS Code.

2. A copy of a currently valid Internal Revenue Service Tax exemption certificate.

3. A statement from a state taxing body, State Attorney General, or other appropriate State official certifying that the applicant organization has a nonprofit status and that none of the net earnings accrue to any private shareholders or individuals.

4. A certified copy of the organization's certificate of incorporation or similar document if it clearly establishes the nonprofit status of the organization.

C. Availability of Funds

Approximately $3,000,000 is available in FY 2002 to fund approximately six to eight awards. It is expected that the average award will be $375,000, ranging from $300,000 to $500,000. It is expected that the awards will begin on or about December 1, 2001, and will be made for a 12-month budget period within a project period of up to three years. Funding estimates may change.

Continuation awards within an approved project period will be made on the basis of satisfactory progress as evidenced by required reports and the availability of funds.

Use of Funds

Funds may not be expended for the purchase or lease of land or buildings, construction of facilities, renovation of existing space, or the delivery of clinical and therapeutic services. The purchase of equipment is discouraged but will be considered for approval if justified on the basis of being essential to the program and not available from any other source.

D. Program Requirements

In conducting activities to achieve the purpose of this program, the recipient will be responsible for the activities under 1. (Recipient Activities), and CDC will be responsible for the activities listed under 2. (CDC Activities).

1. Recipient Activities

a. Implement strategies for delivering diabetes education messages to targeted populations using a variety of culturally effective community-based approaches and channels.

b. Establish coalitions and partnerships that capitalize on the momentum of ongoing diabetes education efforts.

c. Develop strategies that strengthens health care providers' capacity to competently provide culturally and linguistically appropriate diabetes education and support to diverse racial and ethnic minority populations.

d. Develop program activities that are consistent with acceptable standards for conducting diabetes education programs.

e. Develop an action plan for engaging affiliates, chapters, and Community-Based Organization (CBO) partners to:

(1) Develop and implement creative new community-based intervention strategies designed to improve the knowledge, attitude, skills, and behaviors related to the prevention, early detection, and control of diabetes complications using linguistically and culturally appropriate materials and messages.

(2) establish community-based diabetes coalitions among local organizations that serve the targeted population and actively engage members to identify community needs and resources, using community mobilization models such as Diabetes Today and Planned Approach to Community Health (PATCH).

(3) describe the activities that will be conducted to ensure that proposed activities will work synergistically with existing effective diabetes interventions and strategies.

(4) disseminate user-friendly diabetes education and local diabetes health care resource materials, as well as utilize existing diabetes awareness messages and strategies that are culturally and linguistically appropriate for the targeted population, based on current science.

(5) improve the capacity of the local health care providers to competently provide culturally and linguistically appropriate diabetes information, education, and support to the targeted population through provider training on cultural sensitivity relative to diabetes and other appropriate awareness activities.

(6) collaborate with other programs in the community working with the targeted population, such as the Diabetes Control Programs (DCPs) and the Racial Ethnic Approaches to Community Health (REACH) Projects and other appropriate organizations.

(7) develop a well-designed evaluation plan to monitor progress and measure accomplishments of activities and strategies utilized by the applicant and partner CBOs.

(8) disseminate pertinent program information to appropriate partner organizations and other appropriate agencies and partners at the national, regional, State and local levels.

(9) respond to public inquiries regarding project activities as appropriate.

2. CDC Activities

a. provide periodic updates of national activities related to the control of diabetes in targeted populations.

b. assist in identifying and developing culturally and linguistically appropriate diabetes educational materials for community-based programs that reach the target populations.

c. provide programmatic consultation and guidance related to the development, implementation, evaluation, and dissemination of proposed program activities.

d. collaborate with recipients in the development and dissemination of information.

e. provide technical assistance related to coordination of activities between recipient and other national and community programs.

E. Content

Use the information in the Program Requirements, Other Requirements, and Evaluation Criteria sections to develop the application content. Your application will be evaluated on the criteria listed, so it is important to follow them in laying out your program plan. The narrative should be no more than 75 double-spaced pages, printed on one side, with one inch margins, and unreduced font. Program definitions and information that can be helpful in completing the application are attached.

1. Background and Need

a. Describe the problem(s) being addressed by the national/regional organization's proposed activities.

b. Describe the need for the proposed activities in the geographical area(s) within which the activities will be implemented.

c. Describe the characteristics of the targeted population relative to their racial and ethnic diversity and knowledge, attitudes, beliefs, and health practices relative to diabetes.

2. Capacity

a. Describe the organization's mission, structure and function to include the following:

(1) Type of constituency; Latino population, Asian-American health providers, and other appropriate populations.

(2) Number of constituents and affiliates.

(3) Location of constituents and affiliates.

(4) How constituents and affiliates work with organization decision makers.

(5) Methods of routine communication with constituents and members.

(6) Description of how this infrastructure will be used to support successful implementation of the proposed program activities.

b. Describe organization's past and present diabetes awareness and education activities. Explain how existing effective diabetes messages will be integrated and how the proposed program activities will expand rather than duplicate present activities.

c. Describe organization's past and present experience and abilities to work on diabetes with affiliates, chapters, or CBOs.

d. Describe past and present collaborative partnerships with public and private sector organizations that serve or have established linkages in the targeted population. Include evidence of collaborations with partners and describe how these partnerships can be used to support the successful implementation of the proposed program activities.

e. Describe the nature and extent of constituent support for past and present organizational activities related to awareness and education activities for the control of diabetes or describe how constituent support will be secured for the proposed program activities.

f. Provide a copy of a letter of commitment from the organization's Board President or appropriate designee, acknowledging their support of the applicant's activities and organization. The letter should address the organization's support and commitment to develop a plan and policy that will be adopted by affiliates, chapters, related-membership organizations, and CBO partners. If a diabetes control policy and plan already exists within the national/regional organization's office, it should be submitted in lieu of a letter of commitment.

g. Provide evidence of national/regional minority organization status as evidence by:

1. Percentage of persons on the governing board that are members of racial or ethnic minority populations.

2. Describe past experience serving racial and ethnic minority populations through its offices, affiliates, or participating minority organizations at the national/regional level for at least 12 months before submission of the application.

3. Objectives

a. Describe the three-year (long-term) specific, measurable, time-phased objectives for the program consistent with the purpose of this program announcement and recipient activities.

b. Describe specific, measurable, time-phased objectives for each budget year (short-term).

4. Program Activities

a. Describe the affiliates, chapters, or types of Community-based organizations that will be involved in the implementation of proposed program activities.

b. Describe the specific activities that will be undertaken to achieve each of the program's objectives during the first year consistent with the recipient activities.

c. Briefly describe the activities planned for budget years two and three.

5. Project Management

a. Submit a work plan that outlines the main implementation steps and activities to be completed by recipient and affiliates, chapters, or partner CBOs by specified targeted dates to achieve the objectives for the budget year. Identify the persons or positions responsible for carrying out the activities.

b. Describe each proposed position for this program that will support this work plan by job title, function, general duties, and the responsibilities of the position. Describe the qualifications for the project coordinator position in terms of education, experience and desired skills. Include the level of effort and allocation of time for each project activity by staff position. Minimal staffing should include a full-time project coordinator and one program assistant.

6. Program Evaluation Plan

Identify methods for attaining measurable, time-phased short and long-term objectives. Identify methods for accomplishing program activities, and monitoring program quality. The evaluation plan should include qualitative and quantitative data collection and assessment methods. As appropriate, this plan should include baseline data for the proposed objectives or the methods that will be used to establish the baseline data; the minimum data to be collected to evaluate the achievement of proposed program objectives; and the systems for collecting and analyzing the data. Data to be reported will be dependent upon the proposed program objectives and activities, however, examples of potential data include, but are not limited to the following:

a. The number of individuals expected to be reached in the targeted population and the plan for evaluating the number actually reached.

b. Information about the national and local health organizations and providers reached and populations served.

c. Number and types of community activities implemented (when, where, and how activities are conducted).

d. Information on the change in knowledge, attitudes, and self-management and/or care utilization practices among people with diabetes.

e. Information on the number of affiliates, chapters, organizations, coalitions and partnerships that are participating in program activities and how activities complement national education efforts.

7. Budget and Narrative Justification

Provide a detailed line-item budget and justification for all operating expenses consistent with the proposed objectives and activities. Provide precise information regarding the purpose of each budget item and provide itemized calculations when appropriate.

Applicants should budget for the following costs:

Out-of-State Travel: Participation in CDC-sponsored training workshops and meetings essential for effective implementation of the diabetes control program. Travel funds should be budgeted for the following meetings:

a. Two persons to attend the CDC Diabetes Translation Conference (3 days) held during the Spring of 2002.

b. One person to attend 1-2 NDEP work group meetings related to program development during 2002 (2 days each meeting).

8. Attachments

Provide these attachments:

1. An organizational chart and one page résumés of current and proposed staff. Include one page job descriptions of proposed staff.

2. A list of applicant's constituents by regional, State, and local organization(s) or a description of each CBO partner.

3. Evidence of collaboration with other organizations that serve the same targeted populations. Include Memorandums of Agreement and letters of support.

4. A description of funding from other sources to conduct similar activities:

a. Describe how funds requested under this announcement will be used differently or in ways that will expand on the funds already received, applied for, or being received.

b. Identify proposed personnel devoted to this project who are supported by other funding sources and the activities they are supporting.

c. Written statement that the funds being requested will not duplicate or supplant funds received from any other sources.

5. Proof of eligibility (see paragraph D, Eligible Applicants).

F. Submission and Deadline

Submit the original and two copies of PHS 5161-1 (OMB Number 0920-0428). Forms are available in the application kit and at the following Internet address: <http://forms.pcs.gov.>

On or before October 26, 2001, submit the application to the Grants Management Specialist identified in the “Where to Obtain Additional Information” section of this announcement.

Deadline: Applications shall be considered as meeting the deadline if they are either:

1. Received on or before the deadline date; or

2. Sent on or before the deadline date and received in time for submission to the independent review group.

(Applicants must request a legibly dated U.S. Postal Service postmark or obtain a legibly dated receipt from a commercial carrier or U.S. Postal Service. Private metered postmarks shall not be acceptable as proof of timely mailing.)

Late: Applications which do not meet the criteria in 1. or 2. above will be returned to the applicant.

G. Evaluation Criteria (100 Points)

Each application will be evaluated individually against the following criteria by an independent review group appointed by CDC.

1. Background and Need (10 Points)

Extent to which the applicant demonstrates an understanding of the program's purpose and objectives and describes the target population's characteristics, diabetes burden and needs of the targeted population, and justify the need for the proposed activities.

2. Capacity (20 Points)

Extent to which the applicant describes:

a. The capacity of the applicant's infrastructure to support successful implementation of the proposed program activities in the targeted population.

b. Applicant's relationship with target population.

Note: A primary or direct relationship is most desirous. Secondary relationships that are limited to fund-raising or philanthropy are less desirous.

c. The success of the applicant's past and present experiences in working with the targeted population, conducting diabetes awareness and education activities, collaborating with public and private sector partners and the potential contribution of these experiences to the success of the proposed program activities.

d. The success of the applicant in generating constituent support for past and present organizational activities and the likelihood that strong support can be secured for the proposed program activities.

e. The reach of affiliates and chapters, national and regional organizations, and number of state or jurisdictions covered.

f. Degree to which there is minority representation in the governance of the organization. A minimum of 51 percent of board members from racial or ethnic minority populations is most desirous.

3. Objectives (15 Points)

Extent to which the proposed objectives are specific, time-related, measurable, appropriate for the targeted audience, and consistent with the stated purpose of this program announcement.

4. Program Activities (25 Points)

Extent to which proposed activities are appropriate for the targeted population achievable and that implementation will lead accomplishment of the proposed objectives within the project period.

5. Project Management (20 Points)

(a) Extent to which the work plan outlined is adequate to implement the program within the time-lines described by the positions and individuals identified.

(b) Extent to which the proposed personnel time allocation is sufficient to accomplish the program activities.

6. Program Evaluation Plan (10 Points)

Extent to which the applicant describes an evaluation plan for monitoring the program's progress, quality, and accomplishments relative to achieving the objectives and completing the proposed program activities within the project period.

7. Budget and Justification (Not Scored)

Extent to which the budget is reasonable and consistent with the purpose of the program announcement and proposed objectives and activities.

H. Other Requirements

Technical Reporting Requirements

Provide CDC with original plus two copies of

1. Semiannual progress reports;

2. Financial status report, no more than 90 days after the end of the budget period; and

3. Final financial and performance reports, no more than 90 days after the end of the project period.

Send all reports to the Grants Management Specialist identified in the “Where to Obtain Additional Information” section of this announcement.

The following additional requirements are applicable to this program. For a complete description of each, see Attachment I of the announcement in the application kit.

AR-9 Paperwork Reduction Act Requirements

AR-10 Smoke-Free Workplace Requirements

AR-11 Healthy People 2010

AR-12 Lobbying Restrictions

AR-14 Accounting System Requirements

AR-15 Proof of Non-Profit Status

AR-21 Small, Minority, Women-Owned Businesses

I. Authority and Catalog of Federal Domestic Assistance Number

This program is authorized under Sections 301(a) and 317(k)(2) [42 U.S.C. 241(a) and 247b (k)(2)] of the Public Health Service Act, as amended. Applicable program regulations are found in 45 CFR Part 74.

J. Where To Obtain Additional Information

This and other CDC announcements can be found on the CDC home page Internet address http://www.cdc.gov. Click on “funding,” then “Grants and Cooperative Agreements.”

To obtain business management technical assistance, contact: Nealean Austin, Grants Management Specialist, Grants Management Branch, Centers for Disease Control and Prevention, Program Announcement 02009, 2920 Brandywine Road, Room 3000, MS-E18, Atlanta, GA 30341-4146, Telephone number: 770-488-2745, Email address: nea1@cdc.gov.

For program technical assistance, contact: Catherine Beartusk, Division of Diabetes Translation, National Center for Chronic Disease Prevention and Health Promotion, Centers for Disease Control and Prevention, 4770 Buford Highway, MS-K-10, Atlanta, GA 30341, Telephone number: 770-488-6031, Email address: kpb4@cdc.gov.

Dated: August 27, 2001.
John L. Williams,
Director, Procurement and Grants Office, Centers for Disease Control and Prevention.

[FR Doc. 01-21998 Filed 8-30-01; 8:45 am]

BILLING CODE 4163-18-P